DEPARTMENT OF HOUSING AND URBAN DEVELOPMENT

[Docket No. FR-6325-N-03]

Notice of Regulatory Waiver Requests Granted for the Third Quarter of Calendar Year 2022

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2022 and ending on September 30, 2022.

FOR FURTHER INFORMATION CONTACT: For general information about this notice, contact Aaron Santa Anna, Associate General Counsel for Legislation and Regulations, Department of Housing and Urban Development, 451 Seventh Street SW, Room 10282, Washington, DC 20410-0500, telephone 202-708-5300 (this is not a toll-free number). HUD welcomes and is prepared to receive calls from individuals who are deaf or hard of hearing, as well as individuals with speech or communication disabilities.

To learn more about how to make an accessible telephone call, please visit https://www.fcc.gov/consumers/guides/telecommunications-relay-service-trs.

For information concerning a particular waiver that was granted and for which public notice is provided in this document, contact the person whose name and address follow the description of the waiver granted in the accompanying list of waivers that have been granted in the third quarter of calendar year 2022.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2022 through September 30, 2022. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2022) before the next report is published (the fourth quarter of calendar year 2022), HUD will include any additional waivers granted for the third quarter in the next report.

Accordingly, information about approved waiver requests pertaining to HUD regulations is provided in the Appendix that follows this notice.

Damon Y. Smith,
General Counsel.

Appendix

Listing of Waivers of Regulatory Requirements Granted by Offices of the Department of Housing and Urban Development July 1, 2022 Through September 30, 2022

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing

I. Regulatory Waivers Granted by the Office of Community Planning and Development

For further information about the following regulatory waivers, please see the name of the contact person that immediately follows the description of the waiver granted.

• Regulation: 24 CFR 91.105(c)(2) and (k); 24 CFR 91.115 (c)(2), and (i); and 24 CFR 91.401.

Project/Activity: The Commonwealth of Puerto Rico and any HUD Community Planning and Development (CPD) grantee located in the county equivalents (municipios) included in the declared-disaster area (see DR-4671-PR) seeking to expedite action in response to Hurricane Fiona, upon notification to the Community Planning and Development Director in its respective HUD Field Office. This authority is in effect for grantees in the areas covered by the major disaster declaration under title IV of the Robert T. Stafford Disaster Relief and Emergency Assistance Act (Stafford Act), DR-4671-PR, dated September 21, 2022, as may be amended (the “declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: September 27, 2022.

Reason Waived: Several CPD grantees were affected by Hurricane Fiona that hit Puerto Rico on September 17, 2022. As a result of substantial property loss and destruction, many individuals and families residing in the declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115(c)(2) and (i); and 24 CFR 91.401.

Project/Activity: The Commonwealth of Puerto Rico and any HUD Community Planning and Development (CPD) grantee located in the county equivalents (municipios) included in the declared-disaster areas (see DR-4671-PR) seeking to expedite action in response to Hurricane Fiona, upon notification to the Community Planning and Development Director in its respective HUD Field Office. This authority is in effect for grantees within the declared-disaster areas and is limited to facilitating preparation of substantial amendments to FY 2022 and prior year plans.

Nature of Requirement: The regulations at 24 CFR 91.105(c)(2) and (k); 24 CFR 91.115(c)(2) and (i); and 24 CFR 91.401 require the grantee to follow its citizen participation plan to provide citizens with reasonable notice and opportunity to comment. The citizen participation plan must state how reasonable notice and opportunity to comment will be given.

Granted By: Marion McFadden, Principal Deputy Assistant Secretary for Community Planning and Development.

Date Granted: September 27, 2022.

Reason Waived: As stated above, several CPD grantees were affected by Hurricane Fiona that hit Puerto Rico on September 17, 2022. As a result of substantial property loss and destruction, many individuals and families residing in the declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Hurricane Fiona.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: September 27, 2022.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with Hurricane Fiona. The waiver will allow CDBG grantees, including grantees providing assistance to evacuees outside the declared-disaster areas, to pay for the basic daily needs of individuals and families affected by the hurricane on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Community Planning and Development, Department of Housing and Urban Development, 451 Seventh Street SW, Room 7282, Washington, DC 20410, telephone (202) 402-4211.

• Regulation: 24 CFR 91.105(c)(2) and (k), 24 CFR 91.115(c)(2) and (i), and 24 CFR 91.401.

Project/Activity: Any participating jurisdiction or grantee located in the declared-disaster area (see FEMA-DR-4671-PR) affected by Hurricane Fiona.

Nature of Requirement: This provision allows a CPD grantee to amend an approved consolidated plan in accordance with 24 CFR 91.505. Substantial amendments to the consolidated plan, such as the addition of new activities or a change in the use of grant funds from one eligible activity to another, are subject to the citizen participation process in the grantee's citizen participation plan. The citizen participation plan must provide citizens with 30 days to comment on substantial amendments. The regulations require the grantee to follow its citizen participation plan to provide citizens with reasonable notice and opportunity to comment. The citizen participation plan must state how reasonable notice and opportunity to comment will be given.

Granted By: Marion McFadden, Principal Deputy Assistant Secretary.

Date Granted: September 27, 2022.

Reason Waived: Given the need to expedite actions to respond to damage caused by Hurricane Fiona, HUD waives the 30-day public comment requirement of 24 CFR 91.105(c)(2) and (k), 91.115(c)(2), and (i), and 91.401, and reduces the public comment period to no less than seven days. In reducing the comment period to seven days, HUD is balancing the need to quickly assist families dealing with the effects of Hurricane Fiona while continuing to provide reasonable notice and opportunity for citizens to comment on the proposed uses of CDBG, HOME, HTF, HOPWA, and ESG funds.

In addition, HUD recognizes the destruction wrought by Hurricane Fiona makes it difficult for impacted jurisdictions within the declared-disaster areas to provide notice to citizens in accordance with their citizen participation plans. Therefore, HUD waives 24 CFR 91.105(c)(2) and (k) and 24 CFR 91.115(c)(2) and (i) to allow these grantees to determine what constitutes reasonable notice and opportunity to comment given their circumstances.

Applicability: This authority is in effect for grantees within the declared-disaster areas through the end of the grantee's 2022 program year and is limited to facilitating preparation of FY 2022 Plan substantial amendments and substantial amendments to prior year plans.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Projects located in the declared-disaster areas (see FEMA-DR-4671-PR).

Nature of Requirement: These sections of the HOME regulation require initial income determinations for HOME beneficiaries by examining source documents covering the most recent two months. Many families whose housing was destroyed or damaged by Hurricane Fiona will not have any documentation of income and will not be able to qualify for HOME assistance if the requirement remains effective.

Granted By: Marion McFadden, Principal Deputy Assistant Secretary.

Date Granted: September 27, 2022.

Reason Waived: This waiver permits the participating jurisdiction to use self-certification of income, as provided in § 92.203(a)(1)(ii), in lieu of source documentation to determine eligibility for HOME assistance of persons displaced by Hurricane Fiona.

Applicability: This waiver applies only to families displaced by the disaster (as documented by FEMA registration) whose income documentation was destroyed or made inaccessible by Hurricane Fiona and remains in effect for six months from September 27, 2022. The participating jurisdiction or, as appropriate, HOME project owner, is required to maintain: (1) a record of FEMA registration to demonstrate that a family was displaced by Hurricane Fiona; and (2) a statement signed by appropriate family members certifying to the family's size and annual income and that the family's income documentation was destroyed or is inaccessible.

Contact: Virginia Sardone, Director, Office of Affordable Housing Programs, Community Planning and Development, Department of Housing and Urban Development, 451 Seventh Street SW, Room 7160, Washington, DC 20410, telephone (202) 708-2684.

• Regulation: 24 CFR 92.209(e), (h)(1), and (i).

Project/Activity: Projects located in the declared-disaster areas (see FEMA-DR-4671-PR).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion McFadden, Principal Deputy Assistant Secretary.

Date Granted: September 27, 2022.

Reason Waived: Suspending these provisions will provide the participating jurisdiction with greater flexibility to use tenant-based rental assistance as an emergency housing resource.

Applicability: The requirement in 24 CFR 92.209(e) that the start date of a TBRA contract begin on the first day of the term of a tenant's lease is waived for TBRA contracts a participating jurisdiction executes for persons or families displaced by Hurricane Fiona for a period of 24 months after September 27, 2022. The provision of 24 CFR 92.209(h)(1) imposing the maximum amount of TBRA assistance a participating jurisdiction may provide to a family under HOME TBRA is waived for TBRA recipients who are displaced by Hurricane Fiona for a period of 24 months after September 27, 2022. The waiver of the housing quality standards requirements at 24 CFR 92.209(i) applies to units leased by TBRA recipients who were displaced by Hurricane Fiona and are being assisted through a HOME TBRA program funded by the participating jurisdiction for a period of 24 months after September 27, 2022.

Contact: Virginia Sardone, Director, Office of Affordable Housing Programs, Community Planning and Development, Department of Housing and Urban Development, 451 Seventh Street SW, Room 7160, Washington, DC 20410, telephone (202) 708-2684.

• Regulation: 24 CFR 92.218 and 92.222(b).

Project/Activity: Any participating jurisdiction located in the declared-disaster areas (see FEMA-DR-4671-PR).

Nature of Requirement: This provision requires all HOME participating jurisdictions to contribute throughout the fiscal year to housing that qualifies as affordable housing under the HOME program. The contributions must total no less than 25 percent of the HOME funds drawn from the participating jurisdiction's HOME Investment Trust Fund Treasury account. Reducing the match requirement for the participating jurisdiction by 100 percent for FY 2022 and FY 2023 will eliminate the need for the participating jurisdiction to identify match for HOME projects related to the damage caused by Hurricane Fiona. The requirement that the participating jurisdiction must submit a copy of the Presidential major disaster-declaration is waived.

Granted By: Marion McFadden, Principal Deputy Assistant Secretary.

Date Granted: September 27, 2022.

Reason Waived: Given the urgent housing needs created by Hurricane Fiona and the substantial financial impact the participating jurisdiction will face in addressing those needs, the approval of a match reduction will relieve the participating jurisdiction from the need to identify and provide matching contributions to HOME projects.

Applicability: This match reduction applies to funds expended by a participating jurisdiction located in the declared-disaster areas from October 1, 2021, through September 30, 2023. The suspension also applies to State-funded HOME projects located in declared-disaster areas.

Contact: Virginia Sardone, Director, Office of Affordable Housing Programs, Community Planning and Development, Department of Housing and Urban Development, 451 Seventh Street SW, Room 7160, Washington, DC 20410, telephone (202) 708-2684.

• Regulation: 24 CFR 92.251.

Project/Activity: Projects located in the declared-disaster areas (see FEMA-DR-4671-PR) .

Nature of Requirement: This provision requires that housing assisted with HOME funds meet property standards based on the activity undertaken, i.e., homebuyer assistance, and state and local standards and codes or model codes for rehabilitation and new construction.

Property standard requirements are waived for repair of properties damaged by Hurricane Fiona. Units must meet State and local health and safety codes. The lead housing safety regulations established in 24 CFR part 35 are not waived. Also, accessibility requirements at 24 CFR 92.251(a)(2)(i) are not waived.

Granted By: Marion McFadden, Principal Deputy Assistant Secretary.

Date Granted: September 27, 2022.

Reason Waived: This waiver is required to enable the participating jurisdiction to meet the critical housing needs of families whose housing was damaged and families who were displaced by Hurricane Fiona.

Applicability: This waiver applies only to housing units located in the declared-disaster areas which were damaged by the disaster and to which HOME funds are committed within two years of September 27, 2022.

Contact: Virginia Sardone, Director, Office of Affordable Housing Programs, Community Planning and Development, Department of Housing and Urban Development, 451 Seventh Street SW, Room 7160, Washington, DC 20410, telephone (202) 708-2684.

• Regulation: 24 CFR 93.151(c).

Project/Activity: Projects located in the declared-disaster areas (see FEMA-DR-4671-PR).

Nature of Requirement: This section of the HTF regulation requires initial income determinations for HTF beneficiaries by examining source documents covering the most recent two months. Many families whose homes were destroyed or damaged by Hurricane Fiona will not have any documentation of income and will not be able to qualify for HTF assistance if the requirement remains effective.

Granted By: Marion McFadden, Principal Deputy Assistant Secretary.

Date Granted: September 27, 2022.

Reason Waived: This waiver permits the grantee to use self-certification of income, as provided in section 93.151(d)(2), for HTF assisted units in lieu of source documentation to determine initial eligibility of persons displaced by Hurricane Fiona.

Applicability: This waiver applies only to families displaced by the disaster (as documented by FEMA registration) whose income documentation was destroyed or made inaccessible by Hurricane Fiona and remains in effect for six months from September 27, 2022. The grantee or, as appropriate, HTF project owner, is required to maintain: (1) a record of FEMA registration to demonstrate that a family was displaced by Hurricane Fiona; and (2) a statement signed by appropriate family members certifying to the family's size and annual income and that the family's income documentation was destroyed or is inaccessible.

Contact: Virginia Sardone, Director, Office of Affordable Housing Programs, Community Planning and Development, Department of Housing and Urban Development, 451 Seventh Street SW, Room 7160, Washington, DC 20410, telephone (202) 708-2684.

• Regulation: 24 CFR 92.252(d)(l) Utility Allowance Requirements.

Project/Activity: The cities of Bakersfield, California, El Monte, California, and Los Angeles, California, requested a waiver of 24 CFR 92.252(d)(1) to allow use of the utility allowance established by the local public housing agency (PHA) for 22nd Street Lofts, 88th & Vermont, the Metro Family Housing project, and Ybarra Village, four HOME-assisted projects.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Jemine A. Bryon, Acting General Deputy Assistant Secretary for Community Planning and Development.

Date Granted: July 18, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Community Planning and Development, Department of Housing and Urban Development, 451 Seventh Street SW, Room 7160, Washington, DC 20410, telephone (202) 708-2684.

• Regulation: 24 CFR 92.252(d)(1) Utility Allowance Requirements.

Project/Activity: Marin County, California, requested a waiver of 24 CFR 92.252(d)(1) to allow use of the utility allowance established by the local public housing agency (PHA) for Centertown Apartments, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Jemine A. Bryon, Acting General Deputy Assistant Secretary for Community Planning and Development.

Date Granted: July 18, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Community Planning and Development, Department of Housing and Urban Development, 451 Seventh Street SW, Room 7160, Washington, DC 20410, telephone (202) 708-2684.

• Regulation: 24 CFR 92.252(d)(l) Utility Allowance Requirements.

Project/Activity: The State of Georgia requested a waiver of 24 CFR 92.252(d)(1) to allow use of the utility allowance established by the local public housing agency (PHA) for Providence at Parkway Village Apartments, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Jemine A. Bryon, Acting General Deputy Assistant Secretary for Community Planning and Development.

Date Granted: July 18, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(l) Utility Allowance Requirements.

Project/Activity: The State of North Dakota requested a waiver of 24 CFR 92.252(d)(1) to allow use of the utility allowance established by the local public housing agency (PHA) for Monterey Apartments and Winterland Apartments, two HOME-assisted projects.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Marion M. McFadden, Principal Deputy Assistant Secretary for Community Planning and Development.

Date Granted: August 29, 2022.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 574.310(b)(2)(iii), Space and Security.

Project/Activity: City of Tampa, FL; State of Arkansas; City of Denver, CO; State of Connecticut; City of Salt Lake City, UT; City of Los Angeles, CA; State of Hawaii; City of Las Vegas, NV.

Nature of Requirement: This section of the HOPWA regulations provides that each resident must be afforded adequate space and security for themselves and their belongings.

Granted By: Jemine A. Bryon, Deputy Assistant Secretary for Special Needs.

Date Granted: July 1, 2022-September 30, 2022.

Reason Waived: In 2020, CPD began issuing waivers of regulatory authority available on a nationwide basis with a simplified opt-in process to help recipients prevent and mitigate the spread of COVID-19. Between March 31, 2020, and December 30, 2021, CPD published several memoranda announcing nationwide availability of regulatory waivers. Under Notice CPD-22-09, issued on June 15, 2022, HOPWA grantees were provided the opportunity to apply for certain regulatory waivers to provide continued flexibility during the COVID-19 pandemic and pandemic recovery.

Notice CPD-22-09 provided expedited processing of requests to waive 24 CFR 574.310(b)(2)(iii), so that grantees and project sponsors operating housing facilities and shared housing arrangements can place more than two people in a room or reconfigure rooms, common areas and other appropriate spaces for temporary quarantine services of eligible individuals and families affected by COVID-19. Notice CPD-22-09 required grantees to justify in the waiver request why the grantee or project sponsor cannot provide adequate space and security in accordance with the standard provided at 24 CFR 574.310(b)(2)(iii). The waiver request must also specify the period during which the grantee needs to use this waiver and that effective period must not extend beyond March 31, 2023.

Contact: Amy Palilonis, Office of HIV/AIDS Housing, Office of Community Planning and Development, Department of Housing and Urban Development, 451 Seventh Street SW, Room 7248, Washington, DC 20410, telephone (202) 402-5916, amy.l.palilonis@hud.gov.

• Regulation: 24 CFR 574.330(a)(1), Time Limits for Short-Term Housing Facilities and Short-Term Rent, Mortgage, and Utility Payments.

Project/Activity: City of Kansas City, MO; City of Cincinnati, OH; State of Louisiana; City of Tampa, FL; State of Florida; City of Boston, MA; State of Arkansas; State of Connecticut; City of Fort Lauderdale, FL; State of Hawaii; State of Kansas; City of Salt Lake City, UT; State of Wisconsin; State of Georgia; City of Oakland, CA; City of New York City, NY; City of Dallas, TX; City of Los Angeles, CA; State of New York; City of Richmond, VA; City of Denver, CO; State of Kentucky; City of Las Vegas, NV; Commonwealth of Puerto Rico.

Nature of Requirement: This section of the HOPWA regulations limits the total amount of time an eligible individual or family can reside in a short-term supported housing facility to no more than 60 days during any six-month period. It also limits the Short-Term Rent, Mortgage, and Utility (STRMU) payments to prevent the homelessness of the tenant or mortgagor of a dwelling to no more than 21 weeks in any 52-week period.

Granted By: Jemine A. Bryon, Deputy Assistant Secretary for Special Needs.

Date Granted: July 1, 2022-September 30, 2022.

Reason Waived: In 2020, CPD began issuing waivers of regulatory authority available on a nationwide basis with a simplified opt-in process to help recipients prevent and mitigate the spread of COVID-19. Between March 31, 2020, and December 30, 2021, CPD published several memoranda announcing nationwide availability of regulatory waivers. Under Notice CPD-22-09, issued on June 15, 2022, HOPWA grantees were provided the opportunity to apply for certain regulatory waivers to provide continued flexibility during the COVID-19 pandemic and pandemic recovery.

Notice CPD-22-09 provided expedited processing of grantee requests to waive the 21-week and 60-day limitations in 24 CFR 574.330(a)(1). In utilizing the waiver, the grantee or project sponsor must document, on an individual household basis, that a good faith effort has been made to assist the household to achieve housing stability within the time limits specified in the regulations, but that financial needs or health and safety concerns have prevented the household from doing so. The grantee or project sponsor must also have written policies and procedures outlining efforts to regularly re-assess the needs of assisted households, as well as processes for granting extensions based on documented financial needs or health and safety concerns. The waiver request must specify the alternative limits to be used in place of the 21- week and 60-day limit as applicable, and those limits must not exceed 52 weeks and 120 days, respectively and specify the period during which the grantee needs to use this waiver and that effective period must not extend beyond March 31, 2023.

Contact: Amy Palilonis, Office of HIV/AIDS Housing, Office of Community Planning and Development, Department of Housing and Urban Development, 451 Seventh Street SW, Room 7248, Washington, DC 20410, telephone (202) 402-5916, amy.l.palilonis@hud.gov.

• Regulation: 24 CFR 574.530, Self-Certification of Income and Credible Information on HIV Status.

Project/Activity: Maui AIDS Foundation; City of Kansas City, MO; City of Cincinnati, OH; State of Louisiana; City of Tampa, FL; City of Boston, MA; State of Arkansas; State of Connecticut; City of Salt Lake City, UT; State of Wisconsin; Chicago House and Social Service Agency; City of Denver, CO; City of New York City, NY; City of Los Angeles, CA; State of New York; Commonwealth of Puerto Rico; State of Georgia; State of Hawaii; City of Las Vegas, NV.

Nature of Requirement: HOPWA grantees and project sponsors must maintain records to document compliance with HOPWA requirements, which includes determining the eligibility of a family to receive HOPWA assistance.

Granted By: Jemine A. Bryon, Deputy Assistant Secretary for Special Needs.

Date Granted: July 1, 2022-September 30, 2022.

Reason Waived: In 2020, CPD began issuing waivers of regulatory authority available on a nationwide basis with a simplified opt-in process to help recipients prevent and mitigate the spread of COVID-19. Between March 31, 2020, and December 30, 2021, CPD published several memoranda announcing nationwide availability of regulatory waivers. Under Notice CPD-22-09, issued on June 15, 2022, HOPWA grantees were provided the opportunity to apply for certain regulatory waivers to provide continued flexibility during the COVID-19 pandemic and pandemic recovery.

Notice CPD-22-09 provided expedited processing of requests to waive the requirement at 24 CFR 574.530 to have source documentation of HIV status at the time of the determination of eligibility. In utilizing the waiver, grantees and project sponsors may accept written certification of HIV status and income to document eligibility of an individual or family seeking assistance if the grantee or project sponsor agrees to obtain source documentation of HIV status and income eligibility within 90 days of obtaining the written certification. Grantees and project sponsors must provide justification as to why source documentation cannot be acquired at the time of the eligibility determination. The waiver request must specify the period during which the grantee needs to use this waiver and that effective period must not extend beyond March 31, 2023.

Contact: Amy Palilonis, Office of HIV/AIDS Housing, Office of Community Planning and Development, Department of Housing and Urban Development, 451 Seventh Street SW, Room 7248, Washington, DC 20410, telephone (202) 402-5916, amy.l.palilonis@hud.gov.

I. Mega-Waiver for Hurricane Fiona—Continuum of Care (CoC) Program

On September 27, 2022, Principal Deputy Assistant Secretary Marion McFadden issued a memorandum offering waivers of certain statutory and regulatory requirements associated with several Community Planning and Development (CPD) grant programs to address damage and facilitate recovery from Hurricane Fiona in areas covered by a major disaster declaration under Title IV of the Robert T. Stafford Disaster Relief and Emergency Assistance Act (Stafford Act), DR-4671-PR, dated September 21, 2022, and as may be amended (the “declared-disaster areas”). The following summarizes the waivers available for CoC Program Recipients. The September 27, 2022, memorandum was updated on December 8, 2022, to clarify the documentation requirements to support the use of some waivers to assist impacted individuals and provide greater clarity on the use of some waivers outside of the declared disaster area.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from September 27, 2022 the 24-month limit on rental assistance is waived for individuals and families who meet the following criteria. (1) The individual or family lives in a declared-disaster area or was displaced from a declared-disaster area as a result of the disaster; and (2) the individual or family is currently receiving rental assistance or begins receiving rental assistance within two years after the date of the memorandum.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: September 27, 2022.

Reason Waived: Waiving the 24-month cap on rapid re-housing rental assistance will assist individuals and families affected by the disaster, including those already receiving rental assistance as well as those who will receive rental assistance within 2 years of the date of the memorandum, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

CoC—One Year Lease Requirement

• Regulation: 24 CFR 578.3, definition of permanent housing, 24 CFR 578.51(l)(1).

Project/Activity: The one-year lease requirement is waived for two years beginning on September 27, 2022, for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: September 27, 2022.

Reason Waived: Waiving the one-year lease requirement will allow program participants receiving PSH or RRH assistance under the CoC Program to enter leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

CoC—One-Time Limit on Moving Costs

• Regulation: 24 CFR 578.53(e)(2).

Project/Activity: The one-time limit on moving costs of program participants is waived for two years beginning on September 27, 2022, for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: September 27, 2022.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on September 27, 2022. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: September 27, 2022.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from September 27, 2022, so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: September 27, 2022.

Reason Waived: Waiving the requirement to obtain additional evidence of disability as provided in 24 CFR 578.103(a)(4)(i)(B)(4)) as specified below will allow recipient to house people impacted by Hurricane Fiona by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone number (202) 708-4300.

II. Mega-Waiver for Hurricane Fiona—Emergency Solutions Grants (ESG) Program

On September 27, 2022, Principal Deputy Assistant Secretary Marion McFadden issued a memorandum offering waivers of certain statutory and regulatory requirements associated with several Community Planning and Development (CPD) grant programs to address damage and facilitate recovery from Hurricane Fiona in areas covered by a major disaster declaration under title IV of the Robert T. Stafford Disaster Relief and Emergency Assistance Act (Stafford Act), DR-4671-PR, dated September 21, 2022, and as may be amended (the “declared-disaster areas”). The following summarizes the waivers available for ESG Program Recipients.

ESG—Citizen Participation Public Comment Period for Consolidated Plan Amendment

• Regulation: 24 CFR 91.105(c)(2); 24 CFR 91.105(k) and 24 CFR 91.115(c)(2) and 24 CFR 91.115(i)—30-day Public Comment Period for Consolidated Plan Amendment.

Project/Activity: Many individuals and families residing in the declared-disaster area were affected, including the current beneficiaries of the ESG Program and families eligible to receive ESG assistance. The state has inquired about the availability of certain regulatory waivers of ESG Program requirements to facilitate recovery and assist individuals and families affected by the disaster. This authority is in effect through the end of the 2022 program year for grantees within the declared-disaster areas.

Nature of Requirement: An ESG Program recipient may amend an approved consolidated plan in accordance with 24 CFR 91.505. Substantial amendments to the consolidated plan, such as the addition of new activities or a change in the use of ESG Program funds from one eligible activity to another, are subject to the citizen participation process in the recipient's citizen participation plan. The citizen participation plan must provide citizens with 30 days to comment on substantial amendments.

Regulations at 24 CFR 91.105(c)(2) and (k) and 24 CFR 91.115 (c)(2) and (i) set forth the citizen participation plan requirements for local governments and states, respectively. For substantial amendments to the consolidated plan, the regulations require the recipient to follow its citizen participation plan to provide citizens, for both local government and state plans, and units of general local government, for state plans, with reasonable notice and opportunity to comment. The citizen participation plan must state how reasonable notice and opportunity to comment will be given.

Granted By: Marion McFadden, Principal Deputy Assistant Secretary for Community Planning and Development.

Date Granted: September 27, 2022.

Reason Waived: HUD recognizes the destruction wrought by Hurricane Fiona makes it difficult for impacted jurisdictions within the declared-disaster areas to provide notice to citizens in accordance with their citizen participation plans. Therefore, HUD waives 24 CFR 91.105(c)(2) and (k) and 24 CFR 91.115(c)(2) and (i) to allow these grantees to determine what constitutes reasonable notice and opportunity to comment given their circumstances.

Contact: Norm Suchar, Director, Office of Special Needs Assistance Programs, Office of Community Planning and Development, Department of Housing and Urban Development, 451 Seventh Street, SW, Room 7262, Washington, DC 20410, telephone number (202) 708-4300.

ESG—Term Limits on Rental Assistance and Housing Relocation and Stabilization Services

• Regulation: 24 CFR 576.106(a); 24 CFR 576.105(a)(5); and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of Hurricane Fiona; and (2) the individual or family is currently receiving rental assistance or housing relocation stabilization services or begins receiving rental assistance or housing relocation and stabilization services within two years after the date of the memorandum. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: September 27, 2022.

Reason Waived: Waiving the 24-month caps on rental assistance, utility payments, and housing stability case management assistance will assist individuals and families, both those already receiving assistance and those who will receive assistance subsequent to the date of the memorandum to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below Fair Market Rent (FMR)

• Regulation: 24 CFR 576.106(d)(1).

Project/Activity: The FMR restriction is waived for any rent amount that takes effect during the two-year period beginning on September 27, 2022, for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: September 27, 2022.

Reason Waived: HUD granted this waiver to enable ESG recipients to meet the critical housing needs of individuals and families whose housing was damaged or who were displaced as a result of Hurricane Fiona. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions as defined in Notice PIH 2017-20 (HA); and 3. Recipients must make sure all units in which program participants are assisted meet the ESG housing standards within 60 days of September 27, 2022.

Nature of Requirement: If ESG funds are used to help a program participant remain in or move into housing, the housing must meet the minimum habitability standards provided in 24 CFR 576.403(c).

Granted By: Marion McFadden, Principal Deputy Assistant Secretary for Community Planning and Development.

Date Granted: September 27, 2022.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: September 27, 2022.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: September 27, 2022.

Reason Waived: Providing a limited waiver of the expenditure deadline as described in the applicability paragraph below will support recipients' ability to assist individuals and families as provided by waivers 19 and 20 above.

Contact: Norm Suchar, Director, Office of Special Needs Assistance Programs, Office of Community Planning and Development, Department of Housing and Urban Development, 451 Seventh Street SW, Room 7262, Washington, DC 20410, telephone number (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: 1. The individual or family lives in the declared-disaster area or was displaced from the declared-disaster area as a result of Hurricane Fiona; 2. The individual or family is currently receiving ESG-funded rental assistance as the leaseholder or housing relocation stabilization services or begins receiving rental assistance or housing relocation stabilization services within two years after September 27, 2022; 3. The individual or family chooses to rent a unit through a legally valid sublease or lease with the primary leaseholder for the unit; and 4. The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: September 27, 2022.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone number (202) 708-4300.

III. Expedited COVID-19 Waivers (Notice CPD-22-09)—CoC

CoC—Suitable Dwelling Size and Housing Quality Standards—Permanent Housing—Rapid Re-Housing Projects

• Regulation: 24 CFR 578.75(c), and 24 CFR 982.401(d)(2)(ii) as required by 24 CFR 578.75(b).

Nature of Requirement: 4 CFR 578.75(c), suitable dwelling size, and 24 CFR 982.401(d)(2)(ii) as required by 578.75(b), Housing Quality Standards, requires units funded with CoC Program funds to have at least one bedroom or living/sleeping room for each two persons.

The following table provides a summary of the waivers HUD provided with respect to this requirement in accordance with the expedited waiver process described in Notice CPD-22-09, which is available at www.hud.gov/sites/dfiles/OCHCO/documents/2022-09cpdn.pdf.

Project/activity: Grantee | Project/activity: Grant Nos. | Date granted | Reasons waived
Erie County | PA0856L3E052004, PA0856L3E052105 | 7/1/2022 | A, B
Project Community Connections, Inc | GA0314L4B002005, GA0278LB012006, GA0334L4B012004, GA0317L4B012005, GA0327L4B082005 | 7/18/2022 | A, B
Eastern Carolina Housing Organization | SC0123L4E032106, SC0123L4E032005, SC0147L4E032104, SC0147L4E032003, SC0148L4E032104, SC0148L4E032003, SC0166L4E032102, SC0166L4E032001, SC0160D4E032103, SC0160D4E032002, SC0179D4E032100 | 7/25/2022 | A
Clark County Homeless Coalition, Inc | KY0204L4I001901 | 8/16/2022 | A
The Kitchen, Inc | MO0187L7P002007, MO0208L7P002005 | 8/16/2022 | A
S.H.A.R.E. House, Inc | GA0295L4B012106 | 8/16/2022 | A
Lee County Board of County Commissioners | FL0537L4D032107, FL0815L4D032102, FL0816L4D032102, FL0817L4D032102, FL0818L4D032102 | 8/16/2022 | A, B
Services for the Underserved, Inc | NY1174L2T032104, NY1231L2T031901 | 8/16/2022 | A
County of Kent | MI0173L5F062013, MI0173L5F062114, MI0174L5F062013, MI0174L5F062114 | 8/18/2022 | A
Kentucky Housing Coalition | KY0024L4I002114, KY0138L4I002005, KY0138L4I002106, KY0145L4I002005, KY0150L4I002005, KY0151L4I002005, KY0151L4I002013, KY0152L4I002006, KY0152L4I002107, KY0154L4I002005, KY0154L4I002106, KY0156L4I002005, KY0156L4I002106 | 8/17/2022 | A
Pottstown Cluster of Religious Communities | PA0767L3T042005 | 8/24/2022 | A, B
Valley Youth House Committee | PA0808L3T092004, PA0808L3T092105, PA0887L3T092003, PA0887L3T092104, PA0825L3T122004, PA0825L3T122105, PA0893L3T122003, PA0893L3T122104, PA0924L3T082002, PA0924L3T082103, PA0970L3T112001, PA0970L3T112102, PA0917L3T042002, PA0917L3T042103, PA0765L3T032005, PA0765L3T032106, PA0687L3T042107 | 8/24/2022 | A
Valencia Shelter Services | NM0056L6B012112, NM0129D6B012103 | 8/24/2022 | A
Strategies to End Homelessness | OH0686Y5E002100, OH0683U5E002100, OH9999U5E002106 | 8/24/2022 | A
Decatur Cooperative Ministry | GA0364L4B082003 | 8/30/2022 | A
San Diego Housing Commission | CA0534L9D012013 | 9/7/2022 | A
Barren River Area Safe Space, Inc | KY0206D4I002002; KY0206D4I002103 | 9/7/2022 | A
Partners for HOME | GA0418D4B002100 | 9/9/2022 | A
Community Resource Center | CA1598L9D012105, CA1793D9D012103 | 9/9/2022 | A
St. Louis County, MO | MO0304L7E002001, MO0248L7E002003 | 9/9/2022 | A
City of Indianapolis | IN0227Y5H031800, IN0228Y5H031800, IN0230Y5H031800, IN0186L5H032106, IN0196L5H032105, IN0209L5H032104, IN0225D5H032102, IN0247L5H032100 | 9/29/2022 | A
Code Key for Reasons Waived:
A. Potential negative impacts of the pandemic on providing assistance to program participants, including the delay of identifying housing or the onset of housing instability.
B. Local data related to the pandemic's impact that supports the waiver flexibility, the number of unassisted households living in units with more than two persons per room in the geographic area).

Granted By: Dominique Blom, General Deputy Assistant Secretary for Public and Indian Housing.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—Fair Market Rent for Individual Units and Leasing Costs

• Regulation: 24 CFR 578.49(b)(2).

Nature of Requirement: 24 CFR 578.49(b)(2) prohibits a recipient from using grant funds for leasing to pay above FMR when leasing individual units, even if the rent is reasonable when compared to other similar, unassisted units.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
Mental Health Association of Tulsa, Inc | OK0114L6I012005, OK0114L6I012106, OK0043L6I012012, OK0043L6I012113 | 7/1/2022 | A, B
Erie County | PA0854L3E052004, PA0463L3E052110 | 7/1/2022 | A
The Center of Concern | IL0275L5T112013, IL0275L5T112114 | 7/8/2022 | A
EightCAP, Inc | MI0435L5F002007, MI0668L5F002001 | 7/12/2022 | A
Society of St. Vincent de Paul, Council of Louisville, Inc | KY0131L4I012108, KY0095L4I012012, KY0095L4I012113 | 7/15/2022 | A
Keystone Opportunity Center | PA0625L3T042007, PA0625L3T042108 | 7/18/2022 | A, B
Eastern Carolina Housing Organization | SC0136L4E032105, SC0136L4E032004, SC0034L4E032114, SC0034L4E032013, SC0147L4E032104, SC0147L4E032003, SC0148L4E032104, SC0148L4E032003, SC0160D4E032103, SC0160D4E032002, SC0179D4E032100 | 7/25/2022 | A, B
Arizona Department of Housing | AZ0022L9T002013, AZ0022U9T002114 | 7/25/2022 | A, B
Housing First Inc | AL0131L4C012005, AL0028L4C012013, AL0037L4C012013 | 8/1/2022 | A, B
Community Rebuilders | MI0315L5F062111, MI0345L5F062110, MI0412L5F062007, MI0412L5F062108, MI0578L5F062003, MI0578L5F062104, MI0650D5F062001, MI0650D5F062102 | 8/1/2022 | A
Volunteers of America of Florida, Inc. | FL0247L4D012114, FL0192L4D002013 | 8/1/2022 | B
City of Oklahoma | OK0127L6I022004, OK0127L6I022105, OK0052L6I022109 | 8/1/2022 | A, B
Families First of Palm Beach County | FL0275L4D052012 | 8/1/2022 | B
Clark County Homeless Coalition, Inc | KY0204L4I001901 | 8/16/2022 | A
The Kitchen, Inc | MO0182L7P002007 | 8/16/2022 | A, B
Family Gateway | TX0285L6T002009 | 8/16/2022 | A, B
Crossroads Rhode Island | RI0003L1T002013, RI0003L1T002114, RI0030L1T002013 | 8/16/2022 | A, B
Housing Services Mid Michigan | MI0327L5F232009, MI0327L5F232110 | 8/16/2022 | A, B
County of Kent | MI0173L5F062013, MI0173L5F062114, MI0174L5F062013, MI0174L5F062114 | 8/18/2022 | A, B
Kentucky Housing Coalition | KY0027L4I002013, KY0027L4I002114, KY0022L4I002013, KY0022L4I002114, KY0012L4I002013, KY0012L4I002114, KY0155L4I002005, KY0155L4I002106, KY0113L4I002008, KY0113L4I002109, KY0157L4I002005, KY0157L4I002106, KY0121L4I002009, KY0121L4I002110, KY00304LI002114, KY0106L4I002110, KY0013L4I002114, KY0039L4I002013, KY0014L4I002114 | 8/17/2022 | A, B
Together We Cope | IL0237L5T112012, IL0252L5T112013, IL0237L5T112113, IL0252L5T112114 | 8/17/2022 | B
Wayne County CoC | PA0883L3T092003, PA0883L3TO92104 | 8/24/2022 | B
Valley Youth House Committee | PA0893L3T122003, PA0893L3T122104, PA0917L3T042002, PA0917L3T042103 | 8/24/2022 | B
Strategies to End Homelessness | OH0686Y5E002100, OH0683U5E002100, OH9999U5E002106 | 8/24/2022 | A, B
Thresholds | IL0554L5T112107, IL0578L5T102107, IL0417L5T022110, IL0577L5T102007, IL0577L5T102108, IL0002L5T002013, IL0002L5T002114, IL1675L5T002001, IL1675L5T002102 | 8/25/2022 | B
Concern for Independent Living | NY0528L2T032013 | 8/31/2022 | B
Findlay Hope House for the Homeless, Inc | OH0383L5E072108 | 8/30/2022 | B
Decatur Cooperative Ministry | GA0364L4B082003 | 8/30/2022 | B
Coalition for the Homeless | KY0048L4I012011, KY0048L4I012112, KY0050L4I012114, KY0061L4I012114, KY0097L4I012113, KY0099L4I012012, KY0099L4I012113, KY0124L4I012009, KY0124L4I012110, KY0173L4I012004, KY0173L4I012105 | 9/9/2022 | B
Volunteers of America Oklahoma | OK0060L6I012112 | 9/7/2022 | B
Monroe County Opportunity Program | MI0248L5F152012 | 9/9/2022 | A, B
St. Louis County, MO | MO0003L7E002012, MO0106L7E002010 | 9/9/2022 | A, B
OneEighty | OH0469L5E072105 | 9/23/2022 | A, B
Connections for the Homeless, Inc | IL0053L5T112114 | 9/23/2022 | B
City of Indianapolis | IN0073L5H032114 | 9/29/2022 | B
Guam Housing & Urban Renewal | GU0018L9C002007, GU0018L9C002108 | 9/29/2022 | A, B
Code Key for Reasons Waived:
A. Potential negative impacts of the pandemic on providing assistance to program participants, including the delay of identifying housing or the onset of housing instability.
B. Local pandemic-specific delays or limitations (e.g., social distancing requirements, increased rental rates, low vacancy rates).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—One-Year Lease Requirement

• Regulation: 24 CFR 578.3 and 24 CFR 578.51(l)(1).

Nature of Requirement: 24 CFR 578.3, definition of permanent housing, and 24 CFR 578.51(l)(1) requires program participants residing in permanent housing to be the tenant on a lease for a term of at least one year that is renewable and terminable for cause.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
Erie County | PA0331L3E052013, PA0331L3E052114, PA0854L3E052004, PA0856L3E052004, PA0856L3E052105, PA0463L3E052110 | 7/1/2022 | A, B
Catholic Charities of West Tennessee | TN0241L4J012106 | 7/12/2022 | A, B
Project Community Connections, Inc | GA0314L4B002005, GA0278LB012006, GA0334L4B012004, GA0317L4B012005, GA0327L4B082005 | 7/18/2022 | A
Connecticut Department of Mental Health and Addiction Service | CT0161L1E052009, CT0022L1E052013, CT0054L1E052013, CT0062L1E052013, CT0070L1E052013, CT0073L1E052013, CT0089L1E052013, CT0164L1E052011, CT0035L1E032013, CT0061L1E052013, CT0211L1E052008, CT0011L1E052013, CT0013L1E052013, CT0131L1E052012, CT0151L1E052012, CT0212L1E052009, CT0246L1E052007, CT0265L1E052006, CT0285L1E032005, CT0286L1E052005, CT0297L1E052004, CT0328L1E032002, CT0329L1E032002, CT0340L1E052001, CT0077L1E052013, CT0162L1E052006, CT0034L1E032013, CT0176L1E052009, CT0052L1E052013, CT0129L1E052012, CT0142L1E052012, CT0154L1E052010, CT0172L1E052008, CT0185L1E052010, CT0200L1E052009, CT0204L1E052009, CT0210L1E032009, CT0076L1E052013, CT0053L1E052013, CT0141L1E052012, CT0104L1E032013, CT0324L1E032002, CT0012L1E052013, CT0023L1E052013, CT0135L1E052012, CT0237L1E052008, CT0161L1E052110, CT0022L1E052114, CT0054L1E052114, CT0062L1E052114, CT0070L1E052114, CT0073L1E052114, CT0089L1E052114, CT0164L1E052112, CT0035L1E032114, CT0061L1E052114, CT0211L1E052109, CT0011L1E052114, CT0013L1E052114, CT0131L1E052113, CT0151L1E052012, CT0212L1E052009, CT0246L1E052108, CT0265L1E052107, CT0285L1E032106, CT0286L1E052106, CT0297L1E052105, CT0328L1E032103, CT0329L1E032103, CT0340L1E052102, CT0077L1E052114, CT0034L1E032114, CT0176L1E052110, CT0052L1E052114, CT0129L1E052113, CT0142L1E052113, CT0154L1E052111, CT0172L1E052109, CT0185L1E052111, CT0200L1E052110, CT0204L1E052110, CT0210L1E032110, CT0076L1E052114, CT0053L1E052114, CT0141L1E052113, CT0104L1E032114, CT0324L1E032103, CT0012L1E052114, CT0023L1E052114, CT0135L1E052113, CT0237L1E052109, CT0355L1E052100 | 7/25/2022 | A
Eastern Carolina Housing Organization | SC0136L4E032105, SC0136L4E032004, SC0123L4E032106, SC0123L4E032005, SC0034L4E032114, SC0034L4E032013, SC0147L4E032104, SC0147L4E032003, SC0148L4E032104, SC0148L4E032003, SC0166L4E032102, SC0166L4E032001, SC0160D4E032103, SC0160D4E032002, SC0179D4E032100 | 7/25/2022 | A, B
Housing First Inc. | AL0131L4C012005, AL0028L4C012013, AL0037L4C012013 | 8/1/2022 | A, B
Community Renewal Team | CT0059L1E052114, CT0272L1E052106, CT0261L1E052107 | 8/16/2022 | A, B
S.H.A.R.E. House, Inc | GA0295L4B012106 | 8/16/2022 | A
Dakota County | MN0077L5K02114 | 8/16/2022 | A
Lee County Board of County Commissioners | FL0537L4D032107, FL0815L4D032102, FL0816L4D032102, FL0817L4D032102, FL0818L4D032102 | 8/16/2022 | A
Chester County Department of Community Development | PA0148L3T052114, PA0729L3T052106, PA0768L3T052106, PA0877L3T052104, PA0919L3T052103, PA0990L3T052102, PA1025L3T052100 | 8/16/2022 | A
Humboldt County | CA1192L9T222007, CA0852L9T222009 | 8/16/2022 | A
Services for the Underserved, Inc | NY1174L2T032104, NY1231L2T031901 | 8/16/2022 | A
Partners Health management | NC0099L4F092113, NC0116L4F092110, NC0042L4F032114 | 8/18/2022 | A
Kentucky Housing Coalition | KY0110L4I002011, KY0110L4I002112, KY0145L4I002005, KY0027L4I002013, KY0027L4I002114, KY0022L4I002013, KY0022L4I002114, KY0151L4I002005, KY0151L4I002013, KY0150L4I002005, KY0012L4I002013, KY0012L4I002114, KY0155L4I002005, KY0155L4I002106, KY0122L4I002005, KY0122L4I002106, KY0154L4I002005, KY0154L4I002106, KY0156L4I002005, KY0156L4I002106, KY0113L4I002008, KY0113L4I002109, KY0157L4I002005, KY0157L4I002106, KY0138L4I002005, KY0138L4I002106, KY0152L4I002006, KY0152L4I002107, KY0121L4I002009, KY0121L4I002110, KY0114L4I002010, KY0114L4I002111, KY0105L4I002109, KY0105L4I002110, KY0021L4I002115, KY0020L4I002115, KY0127L4I002109, KY00304LI002114, KY0026L4I002114, KY0024L4I002114, KY0120L4I002105, KY0106L4I002110, KY0013L4I002114, KY0025L4I002114, KY0123L4I002105, KY0014L4I002114 | 8/17/2022 | A
Together We Cope | IL0237L5T112012, IL0252L5T112013, IL0237L5T112113, IL0252L5T112114 | 8/17/2022 | B
Catholic Charities of Southern Missouri | MO0245L7P061903, MO0209L7P001904, MO0210L7P021904 | 8/24/2022 | B
Pottstown Cluster of Religious Communities | PA0767L3T042005, PA0133L3T042013 | 8/24/2022 | A
Valley Youth House Committee | PA0808L3T092004, PA0808L3T092105, PA0887L3T092003, PA0887L3T092104, PA0825L3T122004, PA0825L3T122105, PA0893L3T122003, PA0893L3T122104, PA0924L3T082002, PA0924L3T082103, PA0989L3T042001, PA0989L3T042102, PA0970L3T112001, PA0970L3T112102, PA0917L3T042002, PA0917L3T042103, PA0765L3T032005, PA0765L3T032106, PA0687L3T042107 | 8/24/2022 | B
Valencia Shelter Services | NM0056L6B012112, NM0129D6B012103 | 8/24/2022 | A
Thresholds | IL0554L5T112107, IL0225L5T102114, IL0578L5T102107, IL0417L5T022110, IL0577L5T102007, IL0577L5T102108, IL0002L5T002013, IL0002L5T002114, IL1675L5T002001, IL1675L5T002102 | 8/25/2022 | B
Home Forward | OR0036L0E012114 | 8/30/2022 | B
Women's Resource Center | PA0733L3T082005 | 8/30/2022 | A, B
Economic Opportunity Council of Suffolk | NY1232L2T032103 | 8/30/2022 | B
Decatur Cooperative Ministry | GA0364L4B082003 | 8/30/2022 | B
San Diego Housing Commission | CA1602L9D012004, CA0534L9D012013, CA1208L9D0112007, CA1349L9D012006 | 9/7/2022 | A, B
Barren River Area Safe Space, Inc | KY0206D4I002002; KY0206D4I002103 | 9/7/2022 | B
Coalition for the Homeless | KY0048L4I012011, KY0048L4I012112, KY0050L4I012114, KY0061L4I012114, KY0097L4I012113, and KY0124L4I012009, KY0124L4I012110, KY0173L4I012004, KY0173L4I012105 | 9/9/2022 | A
Community Resource Center | CA1598L9D012105, CA1793D9D012103 | 9/9/2022 | A
St. Louis County, MO | MO0304L7E002001, MO0003L7E002012, MO0248L7E002012, MO0106L7E002010 | 9/9/2022 | A, B
OneEighty | OH0469L5E072105 | 9/23/2022 | A
City of Indianapolis | IN0228Y5H031800, IN0230Y5H031800, IN0186L5H032106, IN0196L5H032105, IN0209L5H032104, IN0225D5H032102, IN0247L5H032100 | 9/29/2022 | A
Code Key for Reasons Waived:
A. Potential negative impacts of the pandemic on providing assistance to program participants, including the delay of identifying housing or the onset of housing instability.
B. Local pandemic-specific delays or limitations (e.g., social distancing requirements, delays in obtaining necessary paperwork due to office closures or staffing shortages, challenges securing 12-month leases due to landlord trepidation or low vacancy rates).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—Permanent Housing Rapid Re-Housing Limit to 24 Months Rental Assistance

• Regulation: 24 CFR 578.37(a)(1)(ii), 24 CFR 578.51(a)(1)(i), 24 CFR 578.37(a)(1)(ii), and 24 CFR 578.37(a)(1)(ii)(C).

Nature of Requirement: 24 CFR 578.37(a)(1)(ii) and 24 CFR 578.51(a)(1)(i) defines medium term rental assistance as 3-24 months and 24 CFR 578.37(a)(1)(ii) and 24 CFR 578.37(a)(1)(ii)(C) limits rental assistance in Rapid Re-housing projects to medium-term rental assistance, or no more than 24 months.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
NYC Department of Social Services | NY1276D2T001900, NY1044L2T002005, NY1110L2T002004, NY1223D2T002002, NY1224L2T002002, NY1225L2T002002, NY1274D2T002001, NY1275D2T002001, NY1276D2T002001, NY1297L2T002001, NY1110L2T002105, NY1223D2T002103, NY1225L2T002103, NY1274D2T002102, NY1275D2T002102, NY1276D2T002102, NY1297L2T002102 | 7/1/2022 | A, B
Erie County | PA0856L3E052004, PA0856L3E052105 | 7/1/2022 | A, B
The House of Faith, Inc | NJ0507L2F062105 | 7/8/2022 | A, B
Catholic Charities of West Tennessee | TN0241L4J012106 | 7/12/2022 | A, B
Society of St. Vincent de Paul, Council of Louisville, Inc | KY0230D4I012001, KY0230D4I012102 | 7/15/2022 | A, B
Options for Community Living, Inc | NY1234L2T032002 | 7/18/2022 | A, B
Keystone Opportunity Center | PA0625L3T042007, PA0625L3T042108 | 7/18/2022 | A, B
Community Action Partnership of Lancaster and Saunders County | NE0106L7D022004 | 8/1/2022 | A, B
S.H.A.R.E. House, Inc | GA0295L4B012106 | 8/16/2022 | A, B
Dakota County | MN0077L5K02114 | 8/16/2022 | A, B
YWCA St. Joseph | MO0276D7P032002 | 8/18/2022 | A, B
Kentucky Housing Coalition | KY0145L4I002005, KY0151L4I002005, KY0151L4I002013, KY0150L4I002005, KY0154L4I002005, KY0154L4I002106, KY0156L4I002005, KY0156L4I002106, KY0138L4I002005, KY0138L4I002106, KY0152L4I002107, KY0121L4I002009, KY0024L4I002114 | 8/17/2022 | A, B
Wayne County CoC | PA0883L3T092003, PA0883L3TO92104 | 8/24/2022 | B
Pottstown Cluster of Religious Communities | PA0767L3T042005 | 8/24/2022 | B
Valley Youth House Committee | PA0808L3T092004, PA0808L3T092105, PA0825L3T122004, PA0825L3T122105, PA0924L3T082002, PA0924L3T082103, PA0765L3T032005, PA0765L3T032106, PA0687L3T042107 | 8/24/2022 | B
Strategies to End Homelessness | OH0686Y5E002100, OH0683U5E002100, OH9999U5E002106 | 8/24/2022 | A, B
Economic Opportunity Council of Suffolk | NY1232L2T032103 | 8/30/2022 | A
Decatur Cooperative Ministry | GA0364L4B082003 | 8/30/2022 | A, B
San Diego Housing Commission | CA0534L9D012013 | 9/7/2022 | A
Partners for HOME | GA0418D4B002100 | 9/9/2022 | A
Community Resource Center | CA1598L9D012105, CA1793D9D012103 | 9/9/2022 | A, B
St. Louis County, MO | MO0204L7E002001, MO0248L7E002003 | 9/9/2022 | B
Code Key for Reasons Waived:
A. Potential negative impacts of the pandemic on providing assistance to program participants, including the delay of identifying housing or the onset of housing instability.
B. Local pandemic-specific delays or limitations (e.g., social distancing requirements, delays in obtaining necessary paperwork due to office closures or staffing shortages, low vaccination rates or high hospitalization rates of people experiencing homelessness or higher unemployment rates).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—Disability Documentation for Permanent Supportive Housing

• Regulation: 24 CFR 578.103(a) and 24 CFR 578.103(a)(4)(i)(B).

Nature of Requirement: Intake-staff recorded observations of disability is acceptable evidence when documenting disability for individuals and families that meet the “chronically homeless” definition at 24 CFR 578.3. However, the CoC Interim Rule requires such observations to be confirmed and accompanied by other evidence no later than 45 days from the application for assistance.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
The Salvation Army, Beaver County | PA0321L3E032114 | 7/1/2022 | B
Mental Health Association of Tulsa, Inc | OK0114L6I012005, OK0114L6I012106, OK0043L6I012012, OK0043L6I012113, OK0153L6I012102 | 7/1/2022 | B
Bethesda Project | PA0074L3T002114, PA0075L3T002114 | 7/8/2022 | B
Connecticut Department of Mental Health and Addiction Service | CT0161L1E052009, CT0022L1E052013, CT0054L1E052013, CT0062L1E052013, CT0070L1E052013, CT0073L1E052013, CT0089L1E052013, CT0164L1E052011, CT0035L1E032013, CT0061L1E052013, CT0211L1E052008, CT0011L1E052013, CT0013L1E052013, CT0131L1E052012, CT0151L1E052012, CT0212L1E052009, CT0246L1E052007, CT0265L1E052006, CT0285L1E032005, CT0286L1E052005, CT0297L1E052004, CT0328L1E032002, CT0329L1E032002, CT0340L1E052001, CT0077L1E052013, CT0162L1E052006, CT0034L1E032013, CT0176L1E052009, CT0052L1E052013, CT0129L1E052012, CT0142L1E052012, CT0154L1E052010, CT0172L1E052008, CT0185L1E052010, CT0200L1E052009, CT0204L1E052009, CT0210L1E032009, CT0076L1E052013, CT0053L1E052013, CT0141L1E052012, CT0104L1E032013, CT0324L1E032002, CT0012L1E052013, CT0023L1E052013, CT0135L1E052012, CT0237L1E052008, CT0161L1E052110, CT0022L1E052114, CT0054L1E052114, CT0062L1E052114, CT0070L1E052114, CT0073L1E052114, CT0089L1E052114, CT0164L1E052112, CT0035L1E032114, CT0061L1E052114, CT0211L1E052109, CT0011L1E052114, CT0013L1E052114, CT0131L1E052113, CT0151L1E052012, CT0212L1E052009, CT0246L1E052108, CT0265L1E052107, CT0285L1E032106, CT0286L1E052106, CT0297L1E052105, CT0328L1E032103, CT0329L1E032103, CT0340L1E052102, CT0077L1E052114, CT0034L1E032114, CT0176L1E052110, CT0052L1E052114, CT0129L1E052113, CT0142L1E052113, CT0154L1E052111, CT0172L1E052109, CT0185L1E052111, CT0200L1E052110, CT0204L1E052110, CT0210L1E032110, CT0076L1E052114, CT0053L1E052114, CT0141L1E052113, CT0104L1E032114, CT0324L1E032103, CT0012L1E052114, CT0023L1E052114, CT0135L1E052113, CT0237L1E052109, CT0355L1E052100 | 7/25/2022 | B
Community Rebuilders | MI0315L5F062111, MI0345L5F062110, MI0412L5F062007, MI0412L5F062108 | 8/1/2022 | B
City of Oklahoma | OK0127L6I022004, OK0127L6I022105, OK0052L6I022109 | 8/1/2022 | B
Community Renewal Team | CT0059L1E052114, CT0272L1E052106, CT0261L1E052107 | 8/16/2022 | A
Partnership Against Domestic Violence | GA0338L3B022004, GA0338L4B022105 | 8/16/2022 | A, B
Services for the Underserved, Inc | NY1174L2T032104, NY1231L2T031901 | 8/16/2022 | B
Partners Health management | NC0099L4F092113, NC0116L4F092110, NC0042L4F032114 | 8/18/2022 | B
County of Kent | MI0173L5F062013, MI0173L5F062114, MI0174L5F062013, MI0174L5F062114 | 8/18/2022 | B
Kentucky Housing Coalition | KY0110L4I002011, KY0110L4I002112, KY0027L4I002013, KY0027L4I002114, KY0022L4I002013, KY0022L4I002114, KY0012L4I002013, KY0012L4I002114, KY0155L4I002005, KY0155L4I002106, KY0122L4I002005, KY0122L4I002106, KY0113L4I002008, KY0113L4I002109, KY0157L4I002005, KY0157L4I002106, KY0121L4I002009, KY0121L4I002110, KY0114L4I002010, KY0114L4I002111, KY0105L4I002109, KY0105L4I002110, KY0021L4I002115, KY0020L4I002115, KY0127L4I002109, KY00304LI002114, KY0026L4I002114, KY0120L4I002105, KY0106L4I002110, KY0013L4I002114, KY0025L4I002114, KY0123L4I002105, KY0014L4I002114 | 8/17/2022 | A, B
Pottstown Cluster of Religious Communities | PA0133L3T042013 | 8/24/2022 | A, B
Strategies to End Homelessness | OH0686Y5E002100, OH0683U5E002100, OH9999U5E002106 | 8/24/2022 | A, B
Findlay Hope House for the Homeless, Inc | OH0383L5E072108 | 8/30/2022 | A
A Safe Haven Foundation | IL00095L5T101912, IL0371L5T101911, IL0121L5T101912, IL0222L5T101912, IL0236L5T101912 | 8/30/2022 | A
San Diego Housing Commission | CA0534L9D012013 | 9/7/2022 | B
City of Philadelphia | PA0013L3T002114 | 9/9/2022 | B
Code Key for Reasons Waived:
A. Insufficient staffing levels to carry out activities due to the pandemic's impact on the community or jurisdiction.
B. Local pandemic-specific delays or limitations (e.g., social distancing requirements, delays in obtaining necessary paperwork due to office closures or staffing shortages, low vaccination rates or high hospitalization rates of people experiencing homelessness or people living with HIV).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

IV. Expedited COVID-19 Waivers (Notice CPD-22-09)—ESG

ESG—Assisting Program Participants With Subleases

• Regulation: 24 CFR 576.105; 24 CFR 576.106.

Nature of Requirement: The use of “owner” and “lease” in 24 CFR 576.105 and 576.106 restrict program participants from receiving rental assistance under 24 CFR 576.106 and certain services under 24 CFR 576.105 with respect to units that program participants sublease or lease from a person other than the owner or the owner's agent.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
Lee County Human and Veteran Services | E21UC120013 | 7/12/2022 | A, B
Code Key for Reasons Waived:
A. Potential negative impacts of the pandemic on providing assistance to program participants, including the delay of identifying housing or the onset of housing instability.
B. Local pandemic-specific delays or limitations (e.g., social distancing requirements, delays in obtaining necessary paperwork due to office closures or staffing shortages, challenges securing 12-month leases due to landlord trepidation or low vacancy rates).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

ESG—Durational Limits on Housing Relocation and Stabilization Services

• Regulation: 24 CFR 576.105(b)(2); 24 CFR 576.105(c).

Nature of Requirement: 24 CFR 576.105(b)(2) limits the provision of housing stability case management to 30 days while the program participant is seeking permanent housing and to 24 months during the period the program participant is living in housing. 24 CFR 576.105(c) limits the total amount of time a program participant may receive services under 24 CFR 576.105(b) to 24 months during any 3-year period.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
Lee County Human and Veteran Services | E21UC120013 | 7/12/2022 | A, B
City of Evanston | E22MC170012, E21MC170012 | 7/12/2022 | A, B
Orange County Office of Community Development | E21UC360105; E22UC360105 | 08/18/2022 | A, B
City of Lexington | E21MC210004 | 08/17/2022 | A, B
Code Key for Reasons Waived:
A. Potential negative impacts of the pandemic on providing assistance to program participants, including the delay of identifying housing or the onset of housing instability.
B. Local pandemic-specific delays or limitations (e.g., social distancing requirements, increased rental rates, low vacancy rates).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

ESG—24-Month Limit on Rental Assistance

• Regulation: 24 CFR 576.106(a).

Nature of Requirement: 24 CFR 576.106(a) limits the total amount of time a program participant may receive rental assistance to 24-months during a 3-year period.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
Lee County Human and Veteran Services | E21UC120013 | 7/12/2022 | A
City of Evanston | E22MC170012, E21MC170012 | 7/12/2022 | A
Orange County Office of Community Development | E21UC360105, E22UC360105 | 08/18/2022 | A
Collier County Government | E21UC120016, E22UC120016 | 08/16/2022 | A
City of Lexington | E21MC210004 | 08/17/2022 | A
Code Key for Reasons Waived:
A. Local pandemic-specific delays or limitations (e.g., social distancing requirements, increased rental rates, low vacancy rates).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below FMR

• Regulation: 24 CFR 576.106(d)(1).

Nature of Requirement: 24 CFR 576.106(d)(1) provides that rental assistance cannot be provided unless the total rent is equal to or less than the FMR established by HUD, as provided under 24 CFR part 888, and complies with HUD's standard of rent reasonableness, as established under 24 CFR 982.507.

The following table provides a summary of the waivers HUD provided with respect to this requirement in accordance with the expedited waiver process described in Notice CPD-22-09, which is available at www.hud.gov/sites/dfiles/OCHCO/documents/2022-09cpdn.pdf.

Grantee | Grant Nos. | Date granted | Reasons waived
Lee County Human and Veteran Services | E21UC120013, E19UC120013 | 7/12/2022 | A
New York State Office of Temporary and Disability Assistance | E21DC360001 | 7/1/2022 | A
City of Evanston | E22MC170012, E21MC170012 | 7/12/2022 | A
State of Arizona | E21DC040001 | 7/25/2022 | A
Pinellas County Housing and Community Development Department | E21UC120005, E22UC120005 | 7/25/2022 | A
Orange County Office of Community Development | E21UC360105; E22UC360105 | 08/18/2022 | A
Collier County Government | E21UC120016, E22UC120016 | 08/16/2022 | A
City of Raleigh | E21MC370009, E22MC370009 | 9/23/2022 | A
City of Dallas | E21MC480009, E22MC480009 | 9/29/2022 | A
Code Key for Reasons Waived:
A. Local pandemic-specific delays or limitations (e.g., social distancing requirements, increased rental rates, low vacancy rates).

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 200.73 (c), Property Development.

Project/Activity: O'Keefe Apartments, Project No. 071-11545, Chicago, Illinois.

Nature of Requirement: 24 CFR 200.73(c). The regulation requires that a site contain at least five rental dwelling units [of an FHA insured multifamily housing project] shall be on one site and it is part of other contiguous sites comprised of one marketable manageable real estate entity. The regulation reads as follows:

(c) The improvements shall constitute a single project. Not less than five rental dwelling units or personal care units, 20 medical care beds, or 50 manufactured home pads, shall be on one site, except that such limitations do not apply to group practice facilities.

Chapter 3 Section 3.1.30 of the MAP Guide permits a project with two or more noncontiguous parcels of land when the parcels comprise one marketable, manageable real estate entity.

The lender, Merchants Capital Corporation, proposes to finance the acquisition of O'Keefe Apartments project with a loan to be insured pursuant to Section 223(f). The property is in the South Shore neighborhood of Chicago and is comprised of 5 buildings with a total of 67 units within a one-mile radius. Of the 5 buildings one has only 3 units within a two-story townhouse building. The O'Keefe Apartments has been part of HUD Multifamily' s assisted housing portfolio for many years and is now under a single Housing Assistance Payment (HAP) contract for rental assistance.

Granted by: Julia R. Gordon, Assistant Secretary Office of Housing-Federal Housing Administration.

Date Granted: September 23, 2022.

Reason Waived: The Lender, Merchants Capital Corporation has deep roots in affordable housing in the Chicago market. All units are covered by a Section 8 HAP contract and New 20-year renewals will be requested. The proposed mortgage amount is $6,232,400. There is a total of $1,270 in repairs. The project currently has one vacant unit for an overall occupancy of 98.5% per May 17, 2022, rent roll. The O'Keefe Apartments property continue to remain affordable and would preserves much needed affordable housing options for low-income residents in the South Shore neighborhood and is consistent with the Secretary's goal of maintaining affordable housing for low-income persons.

Contact: Willie Fobbs, Director, Office of Multifamily Production, Office of Housing, HTD, Department of Housing and Urban Development, 451 Seventh Street SW, Washington, DC 20410, telephone (202) 402-6257.

• Regulation: 24 CFR 219.220(b)(1995) Payment and Repayment of Operating Assistance.

Project/Activity: Warren Gardens Apartments; FHA No. 023-55049.

Nature of Requirement: This regulation sets forth the requirements that govern the repayment of operating assistance under the Flexible Subsidy Program for Troubled Projects and states “Assistance that has been paid to a project owner under this subpart must be repaid at the earlier of the expiration of the term of the mortgage, termination of mortgage insurance, prepayment of the mortgage, or sale of the project.”

Granted by: Julia R. Gordon Assistant Secretary for Housing-Federal Housing Commissioner.

Date Granted: September 20, 2022.

Reason Waived: The regulation at 24 CFR 219.220(b)(1995) was waived to permit the deferment of the outstanding balance of the Flexible Subsidy Loans, plus accrued interest, for Warren Gardens, and permit the Owner to repay the loans through a repayment plan. This waiver is effective from the date of issuance.

Contact: Saadia Figueroa-Smallwood, Acting Director, Office of Asset Management and Portfolio Oversight, Field Asset Management Division, HTN, Office of Housing, 451 Seventh Street SW, Washington, DC 20410, telephone (904) 208-6026.

III. Regulatory Waivers Granted by the Office of Public and Indian Housing

For further information about the following regulatory waivers, please see the name of the contact person that immediately follows the description of the waiver granted.

• Regulation: 24 CFR 982.303(b)(1).

Nature of Requirement: Notice PIH 2022-09 Streamlined Regulatory Waivers for the Housing Choice Voucher (including Mainstream and Mod Rehab) Program. Allows PHAs to grant a family one or more extensions of the initial voucher term regardless of the policy described in the Administrative Plan. PHAs should ensure consistency with these requests and remain in compliance with the PHA's informally adopted interim standard.

Reason Waived: PHAs were granted to the opportunity to apply for certain regulatory waivers that were originally offered as part of the CARES Act waivers in Notice PIH 2021-14 and 2021-34 to provide continued flexibility during the pandemic and pandemic recovery. HUD expeditiously responded to these waiver request in accordance with Section 106 of the Department of Housing and Urban Development Reform Act of 1989.

Granted By: Dominique Blom, General Deputy Assistant Secretary for Public and Indian Housing.

Date Granted: July 1-September 30, 2022.

Project/Activity: Housing Authority of the County of San Joaquin; Tulare County Housing Authority; Kings County Housing Authority; St. Petersburg Housing Authority; Great Bend Housing Authority; Liberty Housing Authority; Howell County Public Housing Agency; Jersey City Housing Authority; Lakewood Housing Authority; Newark Housing Authority; Village of Cobleskill; Montgomery County Housing Authority; Housing Authority of the City of El Paso, Housing Authority of Texarkana; Tarrant County Housing Assistance Office; Newport News Regional Housing Authority; Housing Authority of Racine County; Fairmont/Morgantown Housing Authority

Contact: Tesia Anyanaso, Program Specialist, Coordination and Compliance Division, Office of Field Operations, Office of Public and Indian Housing, Department of Housing and Urban Development, 451 7th St. SW, Washington, DC 20410-5000, telephone: (202) 402-7026.

• Regulation: 24 CFR 982.303(b)(1).

Nature of Requirement: Notice PIH 2021-34 Expedited Regulatory Waivers for the Public Housing and Housing Choice Voucher (including Mainstream and Mod Rehab) Program(s). Allows PHAs to grant a family one or more extensions of the initial voucher term regardless of the policy described in the Administrative Plan. PHAs should ensure consistency with these requests and remain in compliance with the PHA's informally adopted interim standard.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department of Housing and Urban Development Reform Act of 1989.

Granted By: Dominique Blom, General Deputy Assistant Secretary for Public and Indian Housing.

Date Granted: July 1-September 30, 2022.

Project/Activity: Harrison Housing Authority; St. Francis County Housing Authority; South Tucson Housing Authority; Housing Authority of the County of Merced; Housing Authority of the County of Stanislaus; Benicia Housing Authority; Suisun City Housing Authority; Housing Authority of the City of Long Beach; Housing Authority of the City of Madera; Compton Housing Authority; Santa Rosa Housing Authority; Burbank Housing Authority; Housing Authority of the City of Glendale; Housing Authority of the City of National City; Hartford Housing Authority; Middletown Housing Authority; Naugatuck Housing Authority; Cocoa Housing Authority; Housing Authority of Pompano Beach; Ocala Housing Authority; Fort Walton Beach Housing Authority; Hendry County Housing Authority; Collier County Housing Authority; Winnebago County Housing Authority; Terre Haute Housing Authority; Jeffersonville Housing Authority; Cambridge Housing Authority; Springfield Housing Authority; Milford Housing Authority; Andover Housing Authority; Hingham Housing Authority; Housing Authority of St. Mary's County (MD), Maryland Department of Housing And Community Development; Old Town Housing Authority; Saginaw Housing Commission; Benton Harbor Housing Commission; St. Clair Shores Housing Commission; Muskegon Housing Commission; Saint Paul Public Housing Agency; Independence Housing Authority; High Point Housing Authority; Greensboro Housing Authority; Durham Housing Authority; Chatham County Housing Authority; Southeastern Community & Family Services, Inc.; Franklin-Vance-Warren Opportunity Inc.; Omaha Housing Authority; Northern Regional Housing Authority; Rochester Housing Authority; Kingston Housing Authority; Ithaca Housing Authority; Springfield Metropolitan Housing Authority; Allen Metropolitan Housing Authority; Knox Metropolitan Housing Authority; Miami Metropolitan Housing Authority; Morrow Metropolitan Housing Authority; Pittsburgh Housing Authority; Columbia County Housing Authority; Newport Housing Authority; Bristol Housing Authority (RI); Rhode Island Housing; Municipality Of Mayaguez; Municipality Of Gurabo; Municipality Of Anasco; Municipality Of Naguabo; Lake City Housing Authority; Hartsville Housing Authority; South Carolina State Housing Finance and Development Authority; Meade County Housing and Redevelopment Commission; Lawrence County Housing and Redevelopment Commission; Butte County Housing Authority; Kingsport Housing and Redevelopment Authority; Morristown Housing Authority; San Antonio Housing Authority; Denton Housing Authority; Tarrant County Housing Assistance Office ; Terrell Housing Department; Virginia Beach Department of Housing & Neighborhood Preservation; Springfield Housing Authority; Bremerton Housing Authority; Madison Housing Authority; Sauk County Housing Authority.

Contact: Tesia Anyanaso, Program Specialist, Coordination and Compliance Division, Office of Field Operations, Office of Public and Indian Housing, Department of Housing and Urban Development, 451 7th St. SW, Washington, DC 20410-5000, telephone: (202) 402-7026.

• Regulation: 24 CFR 984.303(k).

Project/Activity: Idaho Housing and Finance Association.

Nature of Requirement: 24 CFR 984.303(k) is a regulation pertaining to termination with Family Self-Sufficiency (FSS) escrow disbursement.

Reason Waived: The agency requested a waiver of this regulation to allow the accrued escrow to be passed to a participant's mother. The mother is elderly and unable to work, which would prevent her from being able to assume the Contract of Participation and complete it, as envisioned in 24 CFR 984.305(d), Succession of FSS Account. After considering the information presented by the agency and absent a statutory prohibition, HUD finds good cause to waive 24 CFR 984.303(k) to allow for both a completion of the Contract of Participation and release of escrow without graduation.

Granted By: Dominique Blom, General Deputy Assistant Secretary for Public and Indian Housing.

Date Granted: September 2, 2022.

Contact: Jayme Brown, Director, Community and Supportive Services Division, Office of Public Housing Investments; Office of Public and Indian Housing, Department of Housing and Urban Development, 451 Seventh Street SW, Washington, DC 20140, telephone (202) 402-3624.

• Regulation: 24 CFR 983.153(c).

Project/Activity: St. Petersburg Housing Authority (SPHA).

Nature of Requirement: 24 CFR 983.153(c) prohibits a PHA from entering into the Agreement to Enter into Housing Assistance Payments (AHAP) contract with the owner if construction or rehabilitation has commenced after proposal submission.

Reason Waived: The HUD Miami Field Office reviewed the Request for Proposals issued by SPHA and the award to Innovare's development. The request addressed the requirement to not begin construction prior to entering into the AHAP. SPHA reported that the developer did not involve SPHA in its decision to start construction. Upon being notified of commenced work and resulting programmatic violations, SPHA requested that the contractor immediately cease construction activities, and began correcting deficiencies noted during the review. Notwithstanding the developer's failure to execute an AHAP with SPHA prior to beginning construction, it should be noted that the developer from the outset complied with all applicable Davis-Bacon requirements. Based on the above analysis and considering the good cause presented, HUD waived the regulation and allowed SPHA to sign and enter into an AHAP contract for 25 project-based vouchers in the Innovare project

Granted By: Dominique Blom, General Deputy Assistant Secretary for Public and Indian Housing.

Date Granted: September 7, 2022.

Contact: Nathaniel Johnson, Senior Housing Program Specialist, Office of Public Housing and Voucher Programs; Public and Indian Housing, Department of Housing and Urban Development, 451 Seventh Street SW, Washington, DC 20140, telephone: (202) 402-5156.

• Regulation: 24 CFR 985.101, 24 CFR 985.105.

Project/Activity: Marion County Housing Authority.

Nature of Requirement: 24 CFR 985.101 states that a PHA must submit to HUD a required Section 8 Management Assessment Program (SEMAP) certification form within 60 calendar days after the end of its fiscal year. 24 CFR 985.105 states that HUD shall assess each PHA's performance under SEMAP annually and shall assign each PHA a SEMAP score and overall performance rating.

Reason Waived: MCHA was greatly impacted by the COVID-19 pandemic, causing staff shortages, participant difficulty in submitting documentation and delayed scheduled inspections. In addition, the agency transitioned to a new software system—causing delayed Rent Reasonableness Certifications, which resulted in late annual reexaminations of family income—and was also impacted by two natural disasters—a major wildfire in September 2020 and an ice storm in February 2021. The agency hired 10 case managers and only retained three due to turnover. The Housing Quality Standards (HQS) Inspector's ongoing health condition limits their work assignments. In the past 2 months, 25 percent of scheduled inspections have been delayed because of a COVID-19 infection in the household. Further, landlords citied high cost of materials and delays in obtaining parts and appliance replacements delaying repairs. Despite MCHA losing its Housing Program Supervisor in November of 2021, and the former Executive Director in April of 2022, the agency's operations are now stabilized, including a third-party HQS Inspector assisting with overdue inspections along with the completed implementation of the new software system. The MCHA received a standard rating on its prior SEMAP certifications in 2019 (which carried over due to the regulatory waivers provided by the CARES Act) from 2018 and 2017. Moreover, the Portland Field Office recommended approval of MCHA's waiver request.

Due to these circumstances, HUD determined, pursuant to the waiver authority provided at 24 CFR 5.110, that there is good cause to waive both regulations.

Granted By: Dominique Blom, General Deputy Assistant Secretary for Public and Indian Housing.

Date Granted: Sep. 27, 2022.

Contact: Michelle Daniels, Housing Program Specialist, Community and Supportive Services Division, Office of Public Housing Investments; Office of Public and Indian Housing, Department of Housing and Urban Development, 451 Seventh Street SW, Washington, DC 20140, telephone: (202) 402-6051.

• Regulation: 24 CFR 982.503(b).

Nature of Requirement: Notice PIH 2022-09 Streamlined Regulatory Waivers for the Housing Choice Voucher (including Mainstream and Mod Rehab) Program.

Reason Waived: PHAs were granted to the opportunity to apply for certain regulatory waivers that were originally offered as part of the CARES Act waivers in Notice PIH 2021-14 and PIH 2021-34 to provide continued flexibility during the pandemic and pandemic recovery. HUD expeditiously responded to these waiver request in accordance with Section 106 of the Department of Housing and Urban Development Reform Act of 1989.

Granted By: Dominique Blom, General Deputy Assistant Secretary for Public and Indian Housing.

Date Granted: July 1-September 30, 2022.

Project/Activity: Lonoke County Housing Authority; Housing Authority of the County of San Joaquin; Kings County Metropolitan Housing Authority; Livermore Housing Authority; West Hartford Housing Authority; St. Petersburg Housing Authority; Dekalb County Housing Authority; Springfield Housing Authority; Wichita Housing Authority; Great Bend Housing Authority; Weston Housing Authority; Liberty Housing Authority; Howell County Public Housing Agency; Lakewood Housing Authority; Plattsburgh Housing Authority; Geneva Housing Authority; Mansfield Metropolitan Housing Authority; Huron Metropolitan Housing Authority; Crawford Metropolitan Housing Authority; Pike Metropolitan Housing Authority; Seneca Metropolitan Housing Authority; Berks County Housing Authority; Union County Housing Authority; Smithfield Housing Authority; Garland Housing Agency; Newport News Regional Housing Authority; Rhinelander Housing Authority; Ashland County Housing Authority; Chippewa County Housing Authority; Fairmont/Morgantown Housing Authority; Bluefield Housing Authority; Jefferson Metropolitan Housing Authority.

Tesia Anyanaso, Program Specialist, Coordination and Compliance Division, Office of Field Operations; Public and Indian Housing, Department of Housing and Urban Development, 451 7th St. SW, Washington, DC 20410-5000, telephone: (202) 402-7026.

• Regulation: 24 CFR 982.503(b).

Nature of Requirement: Notice PIH 2021-34 Expedited Regulatory Waivers for the Public Housing and Housing Choice Voucher (including Mainstream and Mod Rehab) Program(s).

Reason Waived: PHAs were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted By: Dominique Blom, General Deputy Assistant Secretary for Public and Indian Housing.

Date Granted: July 1-September 30, 2022.

Project/Activity: Housing Authority of the City of Jasper; Opelika Housing Authority; Housing Authority of Foley; Tallassee Housing Authority; Troy Housing Authority; Northwest Regional Housing Authority; Harrison Housing Authority; Flagstaff Housing Authority; Winslow Housing Authority; South Tucson Housing Authority; Oakland Housing Authority; Benicia Housing Authority; Suisun City Housing Authority; Carlsbad Housing Agency; Burbank Housing Authority; Placer County Housing Authority; Hartford Housing Authority; Middletown Housing Authority; Ansonia Housing Authority; Vernon Housing Authority; Housing Authority of Pompano Beach; Ocala Housing Authority; Plant City Housing Authority; Punta Gorda Housing Authority; Boca Raton Housing Authority; Hendry County Housing Authority; Collier County Housing Authority; Housing Authority of the City and County of Honolulu; Waukegan Housing Authority; Delaware County Housing Authority; Lawrence County Housing and Redevelopment Commission; Butte County Housing Authority; Kingsport Housing and Redevelopment Authority; LaFollette Housing Authority; Brownsville Housing Authority; Morristown Housing Authority; Dayton Housing Authority; Bristol Housing Authority (TN); Roanoke-Chowan Regional Housing Authority; Southeastern Community & Family Services, Inc.; Omaha Housing Authority; Portsmouth Housing Authority; Bergen County Housing Authority; Union County Housing Authority; Mesilla Valley Housing Authority; Northern Regional Housing Authority; Herkimer Housing Authority; Kingston Housing Authority; Ithaca Housing Authority; Harrietstown Housing Authority; New York City Department of Housing Preservation and Development; City of New Rochelle Housing Authority; City of Peekskill; Town of Southampton Housing Authority; Zanesville Metropolitan Housing Authority; Allen Metropolitan Housing Authority; Logan County Metropolitan Housing Authority; Broken Bow Housing Authority; Columbia County Housing Authority; Newport Housing Authority; West Warwick Housing Authority; Coventry Housing Authority; East Greenwich Housing Authority; Rhode Island Housing; Municipality of Gurabo; Municipality of Anasco; Rock Hill Housing Authority; Watertown Housing Authority; Anthony Housing Authority; Central Texas Council of Governments; Anderson County; Terrell Housing Department; Housing Authority of Utah County; Logan City Housing Authority; Roosevelt City Housing Authority; Bear River Regional Housing Authority; Cedar City Housing Authority; Scott County Regional Housing Authority; Bremerton Housing Authority; Grays Harbor Housing Authority; Walla Walla Housing Authority; Madison Housing Authority; New London Housing Authority; Kenosha Housing Authority; Barron County Housing Authority; Richmond Housing Authority; Terre Haute Housing Authority; Warsaw Housing Authority; Lafayette Housing Authority; Atchison Housing Authority; Somerset Housing Authority; New Orleans Housing Authority; Springfield Housing Authority (MA); Milford Housing Authority; Hagerstown Housing Authority; Maryland Department of Housing and Community Development; Old Town Housing Authority; Saginaw Housing Commission; Benton Harbor Housing Commission; The Kandiyohi County Housing and Redevelopment Authority; McLeod County Housing and Redevelopment Authority; Independence Housing Authority; Wilmington Housing Authority; Rocky Mount Housing Authority; Wadesboro Housing Authority; Meade County Housing and Redevelopment Commission; Housing Authority of Lubbock; Brenham Housing Authority; Burnet Housing Authority.

Contact: Tesia Anyanaso, Program Specialist, Coordination and Compliance Division, Office of Field Operations; Public and Indian Housing, Department of Housing and Urban Development, 451 7th St. SW, Washington, DC 20410-5000, telephone: (202) 402-7026.

• Regulation: 24 CFR 982.505(c)(4).

Nature of Requirement: Notice PIH 2022-09 Streamlined Regulatory Waivers for the Housing Choice Voucher (including Mainstream and Mod Rehab) Program.

Reason Waived: PHAs have the option to increase the payment standard for the family at any time after the effective date of the increase, rather than waiting for the next regular reexamination.

Granted By: Dominique Blom, General Deputy Assistant Secretary for Public and Indian Housing.

Date Granted: July 1-September 30, 2022.

Project/Activity: Kings County Housing Authority; Suisun City Housing Authority; Orange County Housing Authority; St. Petersburg Housing Authority; Boise City Housing Authority; Ada County Housing Authority; Great Bend Housing Authority; Great Bend Housing Authority; Tennessee Valley Regional Housing Authority; Plattsburgh Housing Authority; Jefferson Metropolitan Housing Authority; Mansfield Metropolitan Housing Authority; Huron Metropolitan Housing Authority; Hocking Metropolitan Housing Authority; Crawford Metropolitan Housing Authority; Pike Metropolitan Housing Authority; City of Bowling Green Housing Division; Portland Housing Authority; Independence Housing Authority; Weston Housing Authority; Lincoln County Public Housing Agency; Liberty Housing Authority; Howell County Public Housing Agency; Seneca Metropolitan Housing Authority; Berks County Housing Authority; Housing Connect-Salt Lake County; Superior Housing Authority; Chippewa County Housing Authority; Fairmont/Morgantown Housing Authority; Bluefield Housing Authority.

Contact: Tesia Anyanaso, Program Specialist, Coordination and Compliance Division, Office of Field Operations; Public and Indian Housing, Department of Housing and Urban Development, 451 7th St. SW, Washington, DC 20410-5000, telephone: (202) 402-7026.

• Regulation: 24 CFR 982.505(c)(4).

Nature of Requirement: Notice PIH 2021-34 Expedited Regulatory Waivers for the Public Housing and Housing Choice Voucher (including Mainstream and Mod Rehab) Program(s).

Reason Waived: PHAs were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted By: Dominique Blom, General Deputy Assistant Secretary for Public and Indian Housing.

Date Granted: July 1-September 30, 2022.

Project/Activity: Mobile Housing Authority; Housing Authority of the City of Jasper; Opelika Housing Authority; Opp Housing Authority; Housing Authority of Foley; Tallassee Housing Authority; St. Francis County Housing Authority; Winslow Housing Authority; Cocoa Housing Authority; Ocala Housing Authority; Plant City Housing Authority; Collier County Housing Authority; Housing Authority of the City and County of Honolulu; Southwestern Idaho Cooperative Housing Authority; Winnebago County Housing Authority; Delaware County Housing Authority; Tell City Housing Authority; Terre Haute Housing Authority; Jeffersonville Housing Authority; Lafayette Housing Authority; Beatrice Housing Authority; Portsmouth Housing Authority; Bergen County Housing Authority; Mesilla Valley Housing Authority; Rochester Housing Authority; Kingston Housing Authority; Town of Southampton; Zanesville Metropolitan Housing Authority; Municipality of Anasco; Meade County Housing and Redevelopment Commission; Lawrence County Housing and Redevelopment Commission; Butte County Housing Authority; Johnson City Housing Authority; Chattanooga Housing Authority; Kingsport Housing and Redevelopment Authority; Lafayette Housing Authority; Brownsville Housing Authority; Morristown Housing Authority; Bristol Housing Authority (TN); Southeast Tennessee Human Resource Agency; South Tucson Housing Authority; Housing Authority of the County of Merced; Housing Authority of the County of Stanislaus; Carlsbad Housing Agency; City of Norwalk; Hartford Housing Authority; Middletown Housing Authority; Naugatuck Housing Authority; Hingham Housing Authority; Massachusetts Department of Housing and Community Development; Maryland Department of Housing and Community Development; Saginaw Housing Commission; Benton Harbor Housing Commission; St. Clair Shores Housing Commission; Biloxi Housing Authority; Chatham County Housing Authority; East Spencer Housing Authority; Southeastern Community & Family Services, Inc,; Franklin-Vance-Warren Opportunity Inc.; Omaha Housing Authority; Springfield Metropolitan Housing Authority; Columbiana Metropolitan Housing Authority; Coshocton Metropolitan Housing Authority; Miami Metropolitan Housing Authority; Newport Housing Authority; West Warwick Housing Authority; Bristol Housing Authority (TN); Municipality of Gurabo; Housing Authority of the City of Waco; Edgewood Housing; Central Texas Council of Governments; Terrell Housing Department; Housing Authority of Utah County; Springfield Housing Authority (VT); Bremerton Housing Authority; Grays Harbor Housing Authority; Madison Housing Authority; Wausau Housing Authority; Barron County Housing Authority; Clarksburg/Harrison Housing Authority.

Contact: Tesia Anyanaso, Program Specialist, Coordination and Compliance Division, Office of Field Operations; Public and Indian Housing, Department of Housing and Urban Development, 451 7th St. SW, Washington, DC 20410-5000, telephone: (202) 402-7026.

• Regulation: 24 CFR 982.634(a).

Nature of Requirement: Notice PIH 2021-34 Expedited Waivers for the Public Housing and Housing Choice Voucher (including Mainstream and Mod Rehab) Program(s), 24 CFR 982.634(a) allows PHAs to extend homeownership assistance for one additional year.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: July 1-September 30, 2022.

Project/Activity: High Point Housing Authority; Greensboro Housing Authority; Southeastern Community & Family Services, Inc.; Omaha Housing Authority; Rochester Housing Authority; New York Department of Housing Preservation and Development; Lorain Metropolitan Housing Authority; Charleston County Housing Authority; Madison Housing Authority.

Contact: Tesia Anyanaso, Program Specialist, Coordination and Compliance Division, Office of Field Operations; Public and Indian Housing, Department of Housing and Urban Development, 451 7th St. SW, Washington, DC 20410-5000, telephone: (202) 402-7026.

• Regulation: 24 CFR 985.105, 24 CFR 985.101.

Nature of Requirement: Notice PIH 2021-34 Expedited Waivers for the Public Housing and Housing Choice Voucher (including Mainstream and Mod Rehab) Program(s), 24 CFR 985.105, 24 CFR 985.101 whereas PHAs with a fiscal year end 3/31/22, 6/30/22, or 9/30/22 may request to waive Section 8 Management Assessment Program if an indicator declines as a result of operational disruptions and from its adoption of one or more CARES Act waivers.

Reason Waived: PHAs were granted the opportunity to apply for certain regulatory waivers that were originally offered as part of the CARES Act waivers in Notice PIH 2021-14 to provide continued flexibility during the pandemic and pandemic recovery. HUD expeditiously responded to these waiver requests in accordance with Section 106 of the Department and Urban Development Reform Act of 1989.

Granted By: Dominique Blom, General Deputy Assistant Secretary for Public and Indian Housing.

Date Granted: July 1-September 30, 2022.

Project/Activity: Opelika Housing Authority; Tuscaloosa Housing Authority; Tallassee Housing Authority; Hot Springs Housing Authority; Paragould Housing Authority; St. Francis County Housing Authority; City of Tempe Housing Authority; Housing Authority of the County of Stanislaus; Housing Authority of the City of San Buenaventura; Benicia Housing Authority; Housing Authority of the County of Yolo; Housing Authority of the City of Long Beach; Housing Authority of the City of Madera; Compton Housing Authority; Housing Authority of the City of Santa Paula; Frederick Housing Authority; Maryland Department of Housing and Community Development; Saginaw Housing Commission; Benton Harbor Housing Commission; Muskegon Housing Commission; Dowagiac Housing Commission; Saint Paul Public Housing Agency; Housing and Redevelopment Authority of Virginia; Independence Housing Authority; Weston Housing Authority; Greenville Housing Authority; Orange County Housing Authority; Roanoke-Chowan Regional Housing Authority; Chatham County Housing Authority; East Spencer Housing Authority; Stillwater Housing Authority; Housing Authority of Malheur County; Northeast Oregon Housing Authority; Berks County Housing Authority; Cumberland County Housing Authority; Providence Housing Authority; Newport Housing Authority; Bristol Housing Authority (RI); Rhode Island Housing; Municipality Of Mayaguez; Municipality of Trujillo Alto; Bear River Regional Housing Authority; Bristol Regional Housing Authority; Scott County Regional Housing Authority; Loudoun County Office of Housing; Springfield Housing Authority (VT); Bremerton Housing Authority; Carlsbad Housing Agency; Santa Rosa Housing Authority; Burbank Housing Authority; Housing Authority of the City of Glendale; Placer County Housing Authority; South Metro Housing Options; Middletown Housing Authority; Jacksonville Housing Authority; Ocala Housing Authority; Fort Walton Beach Housing Authority; Hendry County Housing Authority; Collier County Housing Authority; Housing Authority of the City of Statesboro; Muscatine Housing Authority; Oskaloosa Municipal Housing Agency; Coastal Community Action, Inc.; Southeastern Community & Family Services, Inc.; Franklin-Vance-Warren Opportunity Inc.; Atlantic City Housing Authority; Bergen County Housing Authority; Penns Grove Housing Authority; New Jersey Department of Community Affairs; Mesilla Valley Housing Authority; Northern Regional Housing Authority; Saratoga Springs Housing Authority; Rochester Housing Authority; Kingston Housing Authority; Hornell Housing Authority; New York City Department of Housing Preservation and Development; City of Utica; Housing Authority of Myrtle Beach; South Carolina State Housing Finance and Development Authority; Meade County Housing and Redevelopment Commission; Lawrence County Housing and Redevelopment Commission; Butte County Housing Authority; Dayton Housing Authority; Housing Authority of Slaton; Brenham Housing Authority; Denton Housing Authority; Tarrant County Housing Assistance Office; Logan City Housing Authority; Sauk County Housing Authority; Marinette County Housing Authority; Huntington Housing Authority; Bluefield Housing Authority; Clarksburg/Harrison Housing Authority; Albia Housing Agency; Central Iowa Regional Housing Authority; Iowa Northland Regional Housing Authority; Southwestern Idaho Cooperative Housing Authority; Idaho Housing and Finance Association; Joliet Housing Authority; Winnebago County Housing Authority; Jeffersonville Housing Authority; Campbellsville Housing Authority; Springfield Housing Authority (KY); City of Covington; Appalachian Foothills; Springfield Housing Authority (MA); Milford Housing Authority; Hingham Housing Authority; Youngstown Metropolitan Housing Authority; Portsmouth Metropolitan Housing Authority; Lorain Metropolitan Housing Authority; Butler Metropolitan Housing Authority; Ironton Metropolitan Housing Authority; Belmont Metropolitan Housing Authority; Springfield Metropolitan Housing Authority; Greene Metropolitan Housing Authority; Columbiana Metropolitan Housing Authority; Hocking Metropolitan Housing Authority; Allen Metropolitan Housing Authority; Adams Metropolitan Housing Authority; Knox Metropolitan Housing Authority; Morrow Metropolitan Housing Authority; Broken Bow Housing Authority; Municipality of Carolina; Municipality of Morovis; Municipality of Maricao; Municipality of Vega Baja; Municipality of Gurabo; Municipality of Naguabo; Municipality of Adjuntas; Charleston County Housing Authority; Columbia Housing Authority; Lake City Housing Authority; Hartsville Housing Authority.

Contact: Tesia Anyanaso, Program Specialist, Coordination and Compliance Division, Office of Field Operations; Public and Indian Housing, Department of Housing and Urban Development, 451 7th St. SW, Washington, DC 20410-5000, telephone: (202) 402-7026.

[FR Doc. 2023-02843 Filed 2-9-23; 8:45 am]

BILLING CODE 4210-67-P